DEPARTMENT OF AGRICULTURE

Submission for OMB Review; Comment Request

September 18, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by October 24, 2019 will be considered. Written comments should be addressed to: Desk Officer for Agriculture, Office of Information and Regulatory Affairs, Office of Management and Budget (OMB), New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Post-Decisional Administrative Review Process.

OMB Control Number: 0596-0231.

Summary of Collection: Under 36 CFR part 214, the Forest Service (FS), at its own discretion, provides a process by which holders, operators, and solicited applicants may appeal certain written decisions issued by a Responsible Official involving a written instrument authorizing the occupancy or use of National Forest System (NFS) lands and resources.

Need and use of the Information: Information is collected and submitted from individuals who are holders or operators of a valid written authorization to occupy or use NFS lands and resources. The appellant must provide name, mailing address, daytime telephone number, email address, signature, and statements of how appellant is adversely affected by decision being appealed; relevant facts underlying the decision; discussion of issues raised by the decision; attempts to resolve issues under appeal with the Responsible Official and a statement of the relief sought. The information is used to review an agency decision on a written authorization against the issues raised by the appellant and determine whether to affirm or reverse the decision.

Description of Respondents: Individuals or households.

Number of Respondents: 25.

Frequency of Responses: Reporting: On occasion.

Total Burden Hours: 200.

Title: The Role of Local Communities in the Development of Agreement or Contract Plans Through Stewardship Contracting.

OMB Control Number: 0596-0201.

Summary of Collection: Section 8205 of Public Law 113-79, the Agricultural Act of 2014, requires the Forest Service (FS) to report to Congress annually on the role of local communities in the development of agreement or contract plans through stewardship contracting. To meet that requirement FS conducts an annual telephone survey to gather the necessary information for FS to develop its annual report to Congress.

Need and use of the Information: The survey will collect information on the role of local communities in the development of agreement or contract plans through stewardship contracting. The survey will provide information regarding the nature of the local community involved in developing agreement or contract plans, the nature of roles played by the entities involved in developing agreement or contract plans, the benefits to the community and agency by being involved in planning and development of contract plans, and the usefulness of stewardship contracting in helping meet the needs of local communities. FS posts the report on its web page for viewing by the public. Congress also makes the agency reports available for use by organizations both inside and outside the government.

Description of Respondents: Individuals or households; Business or other for-profit; Not-for-profit institutions; Federal Government; State, Local or Tribal Government.

Number of Respondents: 75.

Frequency of Responses: Reporting: Annually.

Total Burden Hours: 56.

Kimble Brown,
Departmental Information Collection Clearance Officer.

[FR Doc. 2019-20581 Filed 9-23-19; 8:45 am]

BILLING CODE 3411-15-P